DEPARTMENT OF TRANSPORTATION

Federal Aviation Administration

14 CFR Part 71

[Airspace Docket No. 02-ACE-8]

Establishment of Class E2 Airspace and Modification of Existing Class E5 Airspace; Ainsworth, NE; Correction

AGENCY: Federal Aviation Administration (FAA), DOT.

ACTION: Final rule; correction.

SUMMARY: This action corrects a final rule that was published in the Federal Register on Friday, January 3, 2003, (68 FR 261). It corrects an error in the effective date and adds the Ainsworth VOR/DME to the definition of Class E2 airspace at Ainsworth, NE. The final rule established Class E2 airspace and modified Class E5 airspace at Ainsworth, NE.

DATES: The final rule published on January 3, 2003 (68 FR 261) is effective 0901 UTC, March 20, 2003. Comments for inclusion in the Rules Docket must be received on or before February 14, 2003.

FOR FURTHER INFORMATION CONTACT: Brenda Mumper, Air Traffic Division, Airspace Branch, ACE-520A, DOT Regional Headquarters Building, Federal Aviation Administration, 901 Locust, Kansas City, MO 64106; telephone (816) 329-2524.

SUPPLEMENTARY INFORMATION:

History

Federal Register Document 03-62 published on Friday, January 3, 2003 (68 FR 261) establish Class E2 airspace and modified Class E5 airspace at Ainsworth, NE. The Class E2 airspace was defined with reference to the Ainsworth VOR/DME but the precise location of the Ainsworth VOR/DME was omitted. The effective date is corrected to coincide with a chart publication date.

Accordingly, pursuant to the authority delegated to me, the Class E2 airspace at Ainsworth, NE, as published in the Federal Register Friday, January 3, 2003 (68 FR 261), (FR Doc. 03-62), is corrected as follows:

§ 71.1 [Corrected]

On page 261, Column 3, second paragraph change “EFFECTIVE DATE: 0901 UTC, February 20, 2003” to read “EFFECTIVE DATE: 0901 UTC, March 20, 2003.”

On page 262, Column 1, third paragraph from the bottom, correct the definition of Class E2 airspace as follows:

After “(Lat. 42°34′45″ N., long. 99°59′35″ W.)” add “Ainsworth VOR/DME (Lat. 42°34′09″ N., long. 99°59′23″ W.”

Issued in Kansas City, MO, on January 8, 2003.
Herman J. Lyons, Jr.,
Manager, Air Traffic Division, Central Region.

[FR Doc. 03-1314 Filed 1-24-03; 8:45 am]

BILLING CODE 4910-13-M